DEPARTMENT OF TRANSPORTATION

Federal Motor Carrier Safety Administration

[Docket No. FMCSA-2024-0313]

Agency Information Collection Activities; Revision of a New Information Collection Request: National Consumer Complaint Database

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for review and approval. This revision is for the National Consumer Complaint Database (NCCDB), which is an online interface allowing consumers, drivers, and others to file complaints against unsafe and unscrupulous companies and/or their employees, including shippers, receivers, and transportation intermediaries, depending on the type of complaint. These complaints cover a wide range of issues, including but not limited to driver harassment, coercion, movement of household goods, financial responsibility instruments for brokers and freight forwarders, Americans with Disability Act compliance, electronic logging devices, entry-level driver training, Medical Review Officers, and Substance Abuse Professionals (SAPs). FMCSA requests approval to revise the ICR titled “National Consumer Complaint Database.” Four comments were received in response to the 60-day Federal Register notice.

DATES: Comments on this notice must be received on or before July 7, 2025.

ADDRESSES: Written comments and recommendations for the proposed information collection should be submitted within 30 days of publication of this notice to www.reginfo.gov/public/do/PRAMain. Find this information collection by selecting “Currently under 30-day Review—Open for Public Comments” or by using the search function.

FOR FURTHER INFORMATION CONTACT: Eduardo Suarez, Commercial Enforcement Division, DOT, FMCSA, 1200 New Jersey Avenue SE, Washington, DC 20590-0001; (760) 693-6646; Eduardo.Suarez@dot.gov.

SUPPLEMENTARY INFORMATION:

Title: National Consumer Complaint Database.

OMB Control Number: 2126-0067.

Type of Request: Revision of a currently approved ICR.

Respondents: Consumers, Drivers, and Other Participants in the Motor Carrier Industry.

Estimated Number of Respondents: 64,545.

Estimated Time per Response: 15 minutes.

Expiration Date: June 30, 2025.

Frequency of Response: On occasion.

Estimated Total Annual Burden: 16,137. The annual burden was calculated using the complaint volume for each of the 12 categories of complaint types.

Background

FMCSA maintains online information and resources to assist consumers, drivers, and others associated with the motor carrier industry with understanding their consumer protection rights and, if necessary, with filing a complaint with the Agency. When effectively applied, this information can contribute to safer motor carrier operations on our nation's highways and improved consumer protection. NCCDB complaint data also provides FMCSA with statistical information regarding motor carriers, in particular the household goods moving industry. NCCDB data is used to alert consumers of those motor carriers with a history of complaints related to transporting household goods and helps FMCSA provide guidance to the public on how to avoid being victimized by unscrupulous moving companies. The data also allows FMCSA to identify problematic motor carriers for enforcement actions and promote compliance. Motor carriers can use NCCDB data to assist with complaint reconciliation.

Since 2016, the NCCDB system has been the central repository for motor carrier complaints received by FMCSA; however, responding to consumer complaints has a long-standing Agency regulatory history. Congress first mandated a Safety Violation Hotline Service in section 4017 of the “Transportation Equity Act of the 21st Century,” (Pub. L. 105-178, 112 Stat. 107 (June 9, 1998)). Congress required DOT to establish, maintain, and promote the use of a nationwide toll-free telephone system to be used by drivers of commercial motor vehicles and others to report potential violations of Federal Motor Carrier Safety Regulations.

The Motor Carrier Safety Improvement Act of 1999 (Pub. L. 106-159, 113 Stat. 1748 (Dec. 9, 1999)) created FMCSA and expanded the Safety Violation Hotline Service to include a 24-hour operation and accept consumer complaints on violations of the commercial regulations previously administered by the Interstate Commerce Commission (i.e., household goods and hostage load complaints).

The Safe, Accountable, Flexible, and Efficient Transportation Equity Act: A Legacy for Users (SAFETEA-LU) (Pub. L. 109-59, 119 Stat. 1144 (Aug. 10, 2005)) required FMCSA to create a system, database, and procedures for filing and logging consumer complaints relating to household goods motor carriers for the purpose of compiling or linking complaint information gathered by FMCSA and the States with regard to such carriers. SAFETEA-LU also required FMCSA to create procedures to allow the public to have access, subject to 5 U.S.C. 552(a), to aggregated complaint information and a process for carriers to challenge duplicate or fraudulent information in the database.

Complaints are also accepted through the NCCDB in connection with other statutory mandates including the protection of drivers against harassment and coercion under sections 32301(b) and 32911, respectively, of the Moving Ahead for Progress in the 21st Century Act (Pub. L. 112-141, 126 Stat. 405 (July 6, 2012)).

FMCSA is in the process of modernizing its NCCDB complaint program and system as well as expanding the program alongside process recommendations submitted by the U.S. Government Accountability Office (GAO) in September 2023. These recommendations are being implemented to expand and enhance FMCSA's ability to centralize the collection, monitoring, and response to consumer complaints about Agency programs, to establish reasonable procedures to provide timely responses to consumers regarding their complaints, and to share complaint information with the public as well as Federal and State agencies, as necessary and applicable.

On January 3, 2025, FMCSA published a notice in the Federal Register (90 FR 382) announcing its intention to submit this ICR to OMB for renewal. The comment period closed on March 4, 2025, and four comments were received by that date.

One comment was received from the American Trucking Associations (ATA) and its Moving and Storage Conference (MSC), expressing strong support for modernizing the NCCDB. The commenters emphasized the NCCDB's role in consumer protection and fraud detection, endorsed GAO's 2023 recommendations, and called for improvements such as clearer branding, enhanced staffing, and data analytics to detect repeat offenders.

FMCSA reviewed the comment submitted by ATA and MSC and finds the recommendations and considerations listed above are not directly applicable to requesting OMB review and approval of this ICR. However, FMCSA will consider these comments as it takes advantage of the new, enhanced technology and system design, adds fraud prevention and security measures, simplifies a complex application process, and improves data quality and safety.

One comment was received from the Transportation Intermediaries Association (TIA), urging FMCSA to modernize the NCCDB in light of rising freight fraud, including identity theft and double brokering. TIA supported GAO's recommendations and proposed improvements such as automated complaint tracking, expanded reporting categories, and public access to complaint outcomes.

FMCSA reviewed the comment submitted by TIA and finds the suggestions are not applicable to the specific burden and information collection elements under review by OMB. However, FMCSA recognizes the importance of addressing freight fraud and will take these comments into account during broader system development and enforcement improvement efforts.

One comment was received jointly from the Truck Safety Coalition (TSC), Citizens for Reliable and Safe Highways (CRASH), and Parents Against Tired Truckers (PATT), emphasizing the need for the NCCDB to better support safety enforcement. They cited increased truck crash fatalities and recommended more transparency, timely complaint handling, and integration of safety complaints into FMCSA oversight activities.

FMCSA reviewed the comment submitted by TSC, CRASH, and PATT. While the concerns raised are not directly applicable to the current ICR, FMCSA will consider these recommendations as it modernizes the NCCDB to enhance public trust, accountability, and carrier oversight.

One comment was received from the Small Business in Transportation Coalition (SBTC), criticizing FMCSA for failing to follow through on its 2013 commitment to accept complaints against unauthorized brokerage activity through the NCCDB. SBTC noted that FMCSA had pledged to gather such complaints, collaborate with industry, and implement an enforcement program—none of which have materialized over the past decade. SBTC urged current leadership to address this oversight and implement long-promised protections.

FMCSA reviewed the comment submitted by SBTC and finds that the concerns raised are not applicable to the current request for OMB review and approval of this ICR. However, FMCSA acknowledges the issue of unregistered brokerage activity and will consider the comment as it evaluates broader enforcement priorities and potential enhancements to complaint intake and tracking functions.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information.

Issued under the authority of 49 CFR 1.87.
Kenneth Riddle,
Acting Associate Administrator, Office of Research and Registration.

[FR Doc. 2025-10310 Filed 6-5-25; 8:45 am]

BILLING CODE 4910-EX-P